DEPARTMENT OF COMMERCE

National Oceanic and Atmospheric Administration

50 CFR Part 635

[Docket No. 110210132-1133-01]

RIN 0648-BA65

Atlantic Highly Migratory Species; Atlantic Bluefin Tuna Quotas and Atlantic Tuna Fisheries Management Measures; Correction

AGENCY: National Marine Fisheries Service (NMFS), National Oceanic and Atmospheric Administration (NOAA), Commerce.

ACTION: Proposed rule.

SUMMARY: On March 14, 2011, NMFS published a proposed rule to modify Atlantic bluefin tuna (BFT) base quotas for all domestic fishing categories; establish BFT quota specifications for the 2011 fishing year; reinstate pelagic longline target catch requirements for retaining BFT in the Northeast Distant Gear Restricted Area (NED); amend the Atlantic tunas possession at sea and landing regulations to allow removal of Atlantic tunas tail lobes; and clarify the transfer at sea regulations for Atlantic tunas. This action is necessary to implement recommendations of the International Commission for the Conservation of Atlantic Tunas (ICCAT), as required by the Atlantic Tunas Convention Act (ATCA), and to achieve domestic management objectives under the Magnuson-Stevens Fishery Conservation and Management Act (Magnuson-Stevens Act). In the proposed rule, NMFS announced the end of the comment period as April 14, 2011, which would allow an approximately 30-day comment period. In order to provide additional opportunities for the public and other interested parties to comment on the proposed rule, NMFS is extending the comment period for this action until April 28, 2011, allowing a 45-day comment period. Comments received by NMFS on the proposed rule will help NMFS determine whether and how to implement final management measures for the BFT and Atlantic tuna fisheries as described in the proposed action. In addition, NMFS has rescheduled the public hearing that was originally scheduled for March 21, 2011, 3 to 5 p.m., in Gloucester, MA. NMFS has rescheduled the public hearing to be held on April 1, 2011, 1 to 3 p.m. at the same location.

DATES: The deadline for comments on the proposed rule regarding BFT quotas and Atlantic tuna fishery management measures has been extended from April 14, 2011, as published on March 14, 2011 (76 FR 13583), to April 28, 2011. The public hearing that was originally scheduled for March 21, 2011, in Gloucester, MA, has been rescheduled for April 1, 2011. See SUPPLEMENTARY INFORMATION for further details.

ADDRESSES: As published on March 14, 2011 (76 FR 13583), you may submit comments, identified by “0648-BA65”, by any one of the following methods:

• Electronic Submissions: Submit all electronic public comments via the Federal eRulemaking Portal http://www.regulations.gov

• Fax: 978-281-9340, Attn: Sarah McLaughlin

• Mail: Sarah McLaughlin, Highly Migratory Species Management Division, Office of Sustainable Fisheries (F/SF1), NMFS, 55 Great Republic Drive, Gloucester, MA 01930

• Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required fields, if you wish to remain anonymous). You may submit attachments to electronic comments in Microsoft Word, Excel, WordPerfect, or Adobe PDF file formats only. To be considered, electronic comments must be submitted via the Federal eRulemaking Portal http://www.regulations.gov. Do not submit electronic comments to individual NMFS staff.

Supporting documents, including the draft Environmental Assessment, Regulatory Impact Review, and Initial Regulatory Flexibility Analysis, are available by sending your request to Sarah McLaughlin at the mailing address specified above. These documents and others, such as the Fishery Management Plans described below, also may be downloaded from the HMS Web site at http://www.nmfs.noaa.gov/sfa/hms/.

The location of the rescheduled public hearing in Gloucester, MA, remains as follows: NMFS, 55 Great Republic Drive, Gloucester, MA. See SUPPLEMENTARY INFORMATION for further details.

FOR FURTHER INFORMATION CONTACT: Sarah McLaughlin or Brad McHale, 978-281-9260.

SUPPLEMENTARY INFORMATION: Atlantic bluefin tuna, bigeye tuna, albacore tuna, yellowfin tuna, and skipjack tuna (hereafter referred to as “Atlantic tunas”) are managed under the dual authority of the Magnuson-Stevens Act and ATCA. ATCA authorizes the Secretary of Commerce (Secretary) to promulgate regulations, as may be necessary and appropriate, to implement ICCAT recommendations. The authority to issue regulations under the Magnuson-Stevens Act and ATCA has been delegated from the Secretary to the Assistant Administrator for Fisheries, NOAA (AA).

In the proposed rule, NMFS announced the end of the comment period as April, 14, 2011. NMFS has received several comments requesting a 15-day extension of the comment period. NMFS has determined that it is reasonable to extend the comment period to allow additional opportunities for public comment, and is extending the comment period until April 28, 2011. These comments will assist NMFS in determining final management measures to conserve and manage the Atlantic tunas fisheries, consistent with the 2006 Consolidated HMS FMP, the Magnuson-Stevens Act, ATCA, and other applicable law.

Need for Correction

This Gloucester, MA, public hearing, originally scheduled for March 21, 2011, has been rescheduled to April 1, 2011, to provide additional advance notice of the hearing and allow attendees additional time to prepare their comments prior to the hearing. In the proposed rule that published March 14, 2011 (76 FR 13583):

1. On page 13583, in the second column, the date and time of the first public hearing listed under the heading DATES should be corrected to read as follows:

“1. April 1, 2011, 1 to 3 p.m., Gloucester, MA.”

2. On page 13588, in the first column, the first paragraph under the heading “Request for Comments” should be corrected to read as follows:

“NMFS solicits comments on this proposed rule through April 28, 2011. See instructions in ADDRESSES section above. NMFS intends to add additional hearings to allow for additional opportunities for public comment. NMFS will announce the dates and locations of those hearings in a future notice.”

Authority: 16 U.S.C. 1801 et seq.

Dated: March 16, 2011.
Samuel D. Rauch III,
Deputy Assistant Administrator for Regulatory Programs, National Marine Fisheries Service.

[FR Doc. 2011-6563 Filed 3-16-11; 4:15 pm]

BILLING CODE 3510-22-P